DEPARTMENT OF TRANSPORTATION

Federal Aviation Administration

14 CFR Part 39

[Docket No. FAA-2011-1321; Directorate Identifier 2011-NM-045-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A319 series airplanes, Model A320-211, -212, -214, -231, -232, and -233 airplanes, and Model A321 series airplanes that would supersede an existing AD. This proposed AD results from mandatory continuing airworthiness information (MCAI) originated by an aviation authority of another country to identify and correct an unsafe condition on an aviation product. The MCAI describes the unsafe condition as:

Following an automatic [additional center tank(s)] ACT fuel transfer failure on an A319, it was noted that the ACT manhole cover seals were extruded, allowing leakage.

This condition, if not corrected, can lead to fuel and/or vapour leakage, possibly resulting in a combustible fuel vapour/air mixture in the cargo compartment, which would constitute a fire risk.

* * * * *

The proposed AD would require actions that are intended to address the unsafe condition described in the MCAI.

DATES: We must receive comments on this proposed AD by January 30, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2011-1321; Directorate Identifier 2011-NM-045-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 26, 2005, we issued AD 2005-23-02, Amendment 39-14360 (70 FR 69067, November 14, 2005). That AD required actions intended to address an unsafe condition on Airbus Model A319-100 Series Airplanes, Model A320-111 airplanes, Model A320-200 series airplanes, and Model A321-100 series airplanes.

Since we issued AD 2005-23-02, Amendment 39-14360 (70 FR 69067, November 14, 2005), The European Aviation Safety Agency (EASA), which is the Technical Agent for the Member States of the European Community, has issued EASA Airworthiness Directive 2010-0177, dated August 30, 2010 (referred to after this as “the MCAI”), to correct an unsafe condition for the specified products. The MCAI states:

Following an automatic ACT fuel transfer failure on an A319, it was noted that the ACT manhole cover seals were extruded, allowing leakage.

This condition, if not corrected, can lead to fuel and/or vapour leakage, possibly resulting in a combustible fuel vapour/air mixture in the cargo compartment, which would constitute a fire risk.

DGAC France AD F-2004-038 [which corresponds to FAA AD 2005-23-02] was issued to require the replacement of the ACT manhole cover and its seal in accordance with SB A320-28-1105, but this modification has proved not to be fully effective. Therefore, it is necessary to replace the seal material and to change the installation process in order to prevent such seal deformation and possibility of leakage.

For the reasons described above, this [EASA] AD supersedes DGAC France AD F-2004-038 (EASA approval 2004-2110) and requires the replacement of the existing manhole seal with a new seal.

This AD also adds certain ACT equipped airplanes, produced after AD 2005-23-02, Amendment 39-14360 (70 FR 69067, November 14, 2005) was issued, to the applicability. This AD also removes Model A320-111 airplanes from the applicability because there are no operational Model A320-111 airplanes in the United Stated and Airbus intends to remove this model from the EASA Type Data Sheet. You may obtain further information by examining the MCAI in the AD docket.

Relevant Service Information

Airbus has issued Mandatory Service Bulletin A320-28-1162, Revision 02, dated December 18, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 721 products of U.S. registry.

The actions that are required by AD 2005-23-02, Amendment 39-14360 (70 FR 69067, November 14, 2005) and retained in this proposed AD take about 1 work-hour per product, at an average labor rate of $85 per work hour. Required parts cost about $0 per product. Based on these figures, the estimated cost of the currently required actions is $85 per product.

We estimate that it would take about 3 work-hours per product to comply with the new basic requirements of this proposed AD. The average labor rate is $85 per work-hour. Where the service information lists required parts costs that are covered under warranty, we have assumed that there will be no charge for these parts. As we do not control warranty coverage for affected parties, some parties may incur costs higher than estimated here. Based on these figures, we estimate the cost of the proposed AD on U.S. operators to be $183,855, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14360 (70 FR 69067, November 14, 2005) and adding the following new AD:

Airbus: Docket No. FAA-2011-1321; Directorate Identifier 2011-NM-045-AD.

Comments Due Date

(a) We must receive comments by January 30, 2012.

Affected ADs

(b) This AD supersedes AD 2005-23-02, Amendment 39-14360 (70 FR 69067, November 14, 2005).

Applicability

(c) This AD applies to Airbus airplanes listed in paragraphs (c)(1), (c)(2), and (c)(3) of this AD; certificated in any category; all serial numbers; if equipped with one or more additional center tank(s) (ACT) with a part number (P/N) listed in table 1 of this AD. This AD does not apply to airplanes already having received Airbus modification 38036 in production.

(1) Model A319-111, -112, -113, -114, -115, -131, -132, and -133 airplanes.

(2) Model A320-211, -212, -214, -231, -232, and -233 airplanes.

(3) Model A321-111, -112, -131, -211, -212, -213, -231, and -232 airplanes.

Table 1—Affected ACT Part Numbers for Applicability
D2827091100000 | D2827105100200 | D2827105300600 | D2827105500400
D2827091100200 | D2827105100400 | D2827105300800 | D2827105500600
D2827091100400 | D2827105100600 | D2827105400000 | D2827105500800
D2827091100600 | D2827105100800 | D2827105400200 | D2827105600000
D2827091100800 | D2827105200000 | D2827105400400 | D2827105600200
D2827091101000 | D2827105200200 | D2827105400600 | D2827105600400
D2827091300000 | D2827105200400 | D2827105400800 | D2827105600600
D2827091300200 | D2827105200600 | D2827105401000 | D2827105600800
D2827091300400 | D2827105200800 | D2827105401200 | D2827107500000
D2827091300600 | D2827105300000 | D2827105401400 | D2827107500200
D2827091300800 | D2827105300200 | D2827105500000 | D2827107500400
D2827105100000 | D2827105300400 | D2827105500200 | D2827107500600

Subject

(d) Air Transport Association (ATA) of America Code 28: Fuel.

Reason

(e) The mandatory continuing airworthiness information (MCAI) states:

Following an automatic ACT fuel transfer failure on an A319, it was noted that the ACT manhole cover seals were extruded, allowing leakage.

This condition, if not corrected, can lead to fuel and/or vapour leakage, possibly resulting in a combustible fuel vapour/air mixture in the cargo compartment, which would constitute a fire risk.

* * * * *

Compliance

(f) You are responsible for having the actions required by this AD performed within the compliance times specified, unless the actions have already been done.

Restatement of Requirements of AD 2005-23-02, Amendment 39-14360 (70 FR 69067, November 14, 2005), With New Sealing Procedures

(g) Within 30 days (for Model A319-111, -112, -113, -114, -115, -131, -132, and -133 airplanes) or 12 months (for Model A320-211, -212, -214, -231, -232, and -233 airplanes; and Model A321-111, -112, and -131 airplanes) after December 19, 2005 (the effective date of AD 2005-23-02, Amendment 39-14360 (70 FR 69067, November 14, 2005): Determine whether the part number (P/N) of each ACT installed on the airplane is included in table 2 of this AD. If no ACT installed on the airplane has a P/N included in table 2 of this AD, no further work is required by this paragraph.

Table 2—Affected ACT P/Ns for AD 2005-23-02, Amendment 39-14360 (70 FR 69067, November 14, 2005)
D2827091100000 | D2827105100200 | D2827105300400 | D2827105500200
D2827091100200 | D2827105100400 | D2827105400000 | D2827105500400
D2827091100600 | D2827105200000 | D2827105400200 | D2827105600000
D2827091300000 | D2827105200200 | D2827105400400 | D2827105600200
D2827091300200 | D2827105200400 | D2827105400600 | D2827105600400
D2827091300400 | D2827105300000 | D2827105400800 | D2827107500000
D2827105100000 | D2827105300200 | D2827105500000 | D2827107500200

Manhole Cover/Seal Replacement

(h) Within 30 days (for Model A319-111, -112, -113, -114, -115, -131, -132, and -133 airplanes) or 12 months (for Model A320-211, -212, -214, -231, -232, and -233 airplanes; and Model A321-111, -112, and -131 airplanes) after December 19, 2005: For each ACT P/N listed in table 2 of this AD: Before further flight, replace the outer ACT manhole cover with a reinforced manhole cover and replace the outer manhole cover seal with a new seal, in accordance with the Accomplishment Instructions of Airbus Service Bulletin A320-28-1105, Revision 02, dated March 11, 2005. Replacements are also acceptable if done before December 19, 2005, in accordance with Airbus Service Bulletin A320-28-1105, Revision 01, dated March 18, 2003; and Airbus Service Bulletin A320-28-1105, dated October 22, 2002. As of the effective date of this AD, doing the manhole cover seal replacement required by paragraph (i) of this AD, terminates the manhole cover seal replacement required by this paragraph.

New Requirements of This AD

ACT Modification

(i) Within 3,000 flight cycles or 24 months, whichever occurs first after the effective date of this AD: Modify the affected ACT listed in table 1 of this AD by replacing the manhole seal, in accordance with the Accomplishment Instructions of Airbus Mandatory Service Bulletin A320-28-1162, Revision 02, dated December 18, 2009. Accomplishing the manhole cover sealing replacement specified in this paragraph terminates the manhole cover sealing replacement required in paragraph (h) of this AD.

Parts Installation

(j) As of the effective date of this AD, no person may install an ACT, whose part number is listed in table 1 of this AD, on any airplane unless it has been modified prior to its installation, in accordance with Airbus Mandatory Service Bulletin A320-28-1162, Revision 02, dated December 18, 2009.

Credit for Actions Accomplished in Accordance With Previous Service Information

(k) Modifying the ACT in accordance with Airbus Mandatory Service Bulletin A320-28-1162, dated February 6, 2008; or Revision 01, dated July 16, 2008; before the effective date of this AD is acceptable for compliance with the corresponding modification required by paragraph (i) of this AD.

FAA AD Differences

Note 1: This AD differs from the MCAI and/or service information as follows: No differences.

Other FAA AD Provisions

(l) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to MCAI European Aviation Safety Agency (EASA) Airworthiness Directive 2010-0177, dated August 30, 2010; Airbus Mandatory Service Bulletin A320-28-1162, Revision 02, dated December 18, 2009; and Airbus Service Bulletin A320-28-1105, Revision 02, dated March 11, 2005; for related information.

Issued in Renton, Washington, on December 6, 2011.
Ali Bahrami,
Manager, Transport Airplane Directorate, Aircraft Certification Service.

[FR Doc. 2011-32076 Filed 12-14-11; 8:45 am]

BILLING CODE 4910-13-P